DEPARTMENT OF ENERGY

Federal Energy Regulatory Commission

[Docket No. IC09-592-000]

Request for Comment on and Emergency Short-Term Clearance Extension of OMB Approval for FERC-592

November 3, 2009.

AGENCY: Federal Energy Regulatory Commission, Energy.

ACTION: Request for comment on emergency short-term clearance extension of OMB (Office of Management and Budget) approval for FERC-592.

SUMMARY: In compliance with the requirements of section 3507(j) (2) of the Paperwork Reduction Act of 1995 (Pub. L. 104-13), as amended by the Information Technology Reform Act of 1996 (Pub. L. 104-106), the Federal Energy Regulatory Commission (Commission or FERC) is soliciting public comment on FERC's request for an emergency short-term clearance extension of the OMB approval of FERC-592 (OMB Control No. 1902-0157; Marketing Affiliates of Interstate Pipelines, Standards of Conduct for Transmission Providers).

DATES: Comments related to FERC's request for an emergency short-term clearance extension of OMB approval are due November 30, 2009.¹

¹ On September 23, 2009, in this Docket, the Commission issued a request (“Commission Information Collection Activities (FERC-592); Comment Request; Extension”) for public comment on the current reporting requirements with no change. (The Notice is available in FERC's eLibrary at http://elibrary.ferc.gov/idmws/search/intermediate.asp?link_file=yes&doclist=13756416 and in the Federal Register at 74 FR 50176 (September 30, 2009).) The Notice provides additional information and requests comments on the need for the reporting requirements; uses of the data; the accuracy of the burden estimate; ways to minimize the burden; and ways to enhance the quality, utility and clarity of the information to be collected. The comment period ends on November 30, 2009; those comments are to be submitted to FERC.

The Notice herein relates to FERC's request to OMB for an emergency short-term extension of the OMB clearance for the FERC-592 reporting requirements, and an expedited OMB decision on the request.

Comments related to issues in both Notices are due on November 30, 2009.

ADDRESSES: Address comments on the request for an emergency short-term clearance extension to the Office of Management and Budget, Office of Information and Regulatory Affairs, Attention: Federal Energy Regulatory Commission Desk Officer. Comments to OMB should be filed electronically, c/o oira_submission@omb.eop.gov and include OMB Control Number 1902-0157 as a reference. The Desk Officer may be reached by telephone at 202-395-4638.

A copy of the comments should also be sent to the Federal Energy Regulatory Commission and should refer to Docket No. IC09-592-000. Comments may be filed either electronically or in paper format at FERC. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and two copies of the comments should be submitted to the Federal Energy Regulatory Commission, Secretary of the Commission, 888 First Street, NE., Washington, DC 20426, and should refer to Docket No. IC09-592-000.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202)502-8663, by fax at (202)273-0873, and by e-mail at ellen.brown@ferc.gov.

SUPPLEMENTARY INFORMATION: FERC-592 includes the reporting, recordkeeping, and posting requirements in:

• 18 CFR Part 358 (Standards of Conduct),²

² The requirements in 18 CFR Part 358 that are related to the natural gas industry are included in OMB No. 1902-0157 and this Notice. However, the requirements in Part 358 that are related to the electric utility industry are covered by FERC-717 (OMB Control No. 1902-0173) and are not a subject of this Notice.

• 18 CFR 250.16, and

• FERC Form No. 592 log/format, that is posted at http://www.ferc.gov/docs-filing/eforms.asp#592.

This Notice refers to this group of collections of information as “FERC-592.”

FERC does not have sufficient time after the pending comment period (ending November 30, 2009) to review and address public comments, to issue a subsequent 30-day Notice soliciting public comment, and to subsequently submit that Notice and a clearance package to OMB at least 60 days before the current expiration date (of December 31, 2009). Therefore, to ensure OMB clearance for the reporting requirements does not expire before the clearance process is concluded, FERC is requesting the following:

• An emergency short-term clearance extension of the current OMB expiration date to May 2, 2010 (the maximum of 180 days from this emergency request),

• Public comments, by November 30, 2009, on the FERC request for the emergency short-term OMB clearance extension, and

• The issuance, no later than December 3, 2009, of OMB's decision on the FERC request for an emergency short-term clearance extension.

Action: As described above, the Commission is requesting: (1) An emergency short-term OMB clearance extension, (2) public comments on the FERC request for an emergency short-term clearance extension of the OMB approval, and (3) an expedited OMB decision on the FERC emergency short-term clearance extension request.

Kimberly D. Bose,
Secretary.

[FR Doc. E9-26971 Filed 11-9-09; 8:45 am]

BILLING CODE 6717-01-P